FEDERAL COMMUNICATIONS COMMISSION

Notice of Public Information Collection(s) Being Reviewed by the Federal Communications Commission, Comments Requested

August 17, 2001.

SUMMARY: The Federal Communications Commission, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before October 23, 2001. If you anticipate that you will be submitting comments, but find it difficult to do so within the period of time allowed by this notice, you should advise the contact listed below as soon as possible.

ADDRESSES: Direct all comments to Les Smith, Federal Communications Commissions, 445 12th Street, S.W., Room 1-A804, Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Approval No.: 3060-0991.

Title: AM Measurement Data.

Form No.: n/a.

Type of Review: Extension of currently approved collection.

Respondents: Businesses or other for-profit.

Number of Respondents: 1,900.

Estimated Hours Per Response: 0.5-25 hours.

Frequency of Response: recordkeeping, third party disclosure, reporting, on occasion.

Cost to Respondents: $72,500.

Estimated Total Annual Burden: 29,180.

Needs and Uses: In order to control interference between stations and assure adequate community coverage, AM stations must conduct various engineering measurements to demonstrate that the antenna system operates as authorized. The data is used by station engineers to correct the operating parameters of an antenna. The data is also used by FCC staff in field operations to ensure that stations are in compliance with the technical requirements of the Commission's rules.

OMB Approval Number: 3060-0798.

Title: FCC Application for Wireless Telecommunications Bureau Radio Service Authorization.

Form No.: FCC 601.

Type of Review: Revision of an existing collection..

Respondents: Individuals or households; Business or other for-profit; Not-for-profit institutions; State, Local or Tribal Government.

Number of Respondents: 240,576.

Estimated Time Per Response: 1.25 hours.

Total Annual Burden: 210,504 hours.

Needs and Uses: FCC 601 is used as the general application (long form) for market based licensing and site-by-site licensing in the Wireless Telecommunications Radio Services. The purpose of this revision is to make the necessary form changes for radio communication services in the 900 MHz band for Multiple Address Systems, for 700 MHz band State License for public safety services, to make the necessary adjustments to the instructions for implementation of Aviation Radio Service and to further clarify various instructions for the applicants. We are seeking emergency clearance on these changes in order to allow form changes to be in place for the auctions scheduled for the middle of November.

The information is used by the Commission to determine whether the applicant is legally, technically and financially qualified to be licensed.

Respondent costs are estimated to be $48,115,200 which includes application filing fees.

OMB Approval Number: 3060-0799.

Title: FCC Ownership Disclosure Information for the Wireless Telecommunications Services.

Form No.: FCC 602.

Type of Review: Extension & Revision of Currently Approved Collection.

Respondents: Individuals or households; Business or other for-profit; not-for-profit institutions; State, Local or Tribal Government.

Number of Respondents: 10,000.

Estimated Time Per Response: 2 hours.

Total Annual Burden: 20,000 hours.

Needs and Uses: This form is required to be filed by applicants who have acquired their license by participation in an FCC auction or who are applying for a license in a service which is subject to Part 1, Subpart Q of the Commission's Rules, or by Common Carrier licensees whether or not the service was originally subject to auction, under the following circumstances:

(1) Applicants for a new license or authorization who do not have a current FCC Form 602 on file with the FCC;

(2) Applicants filing to renew an existing license if there is no current FCC Form 602 on file with the FCC;

(3) Applicants for a transfer of control of a license or assignment of authorization who do not have a current FCC Form 602 on file with the FCC;

(4) Applicants who are going to participate in an FCC auction and do not have a current FCC Form 602 on file.

The purpose for the information collection is to obtain the identity of the applicant and to elicit information required by Section 1.2112 of the Commission's rules regarding:

(1) Persons or entities holding a 10% or greater direct or indirect ownership interest in the applicant;

(2) All affiliates of the applicant pursuant to Section 1.2110;

(3) All general partners in any general partnership in the applicant's chain of ownership, and;

(4) All the members of any limited liability corporation in applicant's chain of ownership.

FCC 602 consists of a Main Form and associated schedules for technical information. Filers will use multiple copies of Form 602 as needed to list each direct and indirect owner and associated information. The data will be used by the FCC to determine whether the applicant is legally, technically and financially qualified to be licensed.

The data collected on this form includes Taxpayer Identification Numbers for the Applicant/Licensee, any Related FCC Regulated Businesses of the Applicant/Licensee, Disclosable Interest Holders and any Related FCC Regulated Businesses of Disclosable Interest Holders. These numbers will not be displayed to the public.

This form has been revised to include FCC Registration Number (FRN).

There is no change to the estimated average burden or number of respondents.

OMB Approval Number: 3060-0800.

Title: FCC Wireless Telecommunications Bureau Application for Assignments of Authorization and Transfers of Control.

Form No.: FCC 603.

Type of Review: Extension and Revision to an Existing Collection.

Respondents: Individuals or households; Business or other for-profit; Not-for-profit institutions; State, Local or Tribal Government.

Number of Respondents: 3,500.

Estimated Time Per Response: 4 hours.

Total Annual Burden: 14,000 hours.

Needs and Uses: Form 603 is a multi-purpose form used to apply for approval of assignment or transfer of control of licenses in the Wireless Radio Services. The data collected on this form is used by the FCC to determine whether the public interest would be served by approval of the requested assignment or transfer. This form is also used to notify the Commission of consummated assignments and transfers of wireless licenses that have previously been consented to by the Commission or for which notification but not prior consent is required. This form is used by applicants/licensees in the Public Mobile Services, Personal Communications Services, Private Land Mobile Radio Services, Broadcast Auxiliary Services, Fixed Microwave Services, Maritime Services (excluding ships), and Aviation Services (excluding aircraft).

The purpose of this form is to obtain information sufficient to identify the parties to the proposed assignment or transfer, establish the parties' basic eligibility and qualifications, classify the filing, and determine the nature of the proposed service. Various technical schedules are required along with the main form applicable to Auctioned Services, Partitioning and Disaggregation, Undefined Geographical Area Partitioning, Notification of Consummation or Request for Extension of Time for Consummation.

The data collected on this form includes the Taxpayer Identification Numbers of the Licensee/Assignor, Transferor and the Assignee/Transferee. These numbers will not be displayed to the public.

This form is replacing FCC Forms 490, 702, 703, 704 and 1046. After an initial transition period for use of the Form 603, the other forms will be obsoleted in the Wireless Telecommunications Bureau.

This form is being revised to include FCC Registration Number (FRN).

There is no change to the estimated average burden or number of respondents.

OMB Approval Number: 3060-0054.

Title: Application For Exemption From Ship Station Requirements.

Form No.: FCC 820.

Type of Review: Extension and Revision to an existing collection.

Respondents: Business or other for-profit; Small Businesses or Organization; Individuals or Households.

Number of Respondents: 250.

Estimated Time Per Response: 1.166 hour.

Total Annual Burden: 291.5 hours.

Needs and Uses: FCC Rules require this collection of information when exemptions from radio provisions of statute, treaty or international agreements are requested. The data is used by examiners to determine the applicants qualifications for the requested exemption.

The data collected on this form includes the applicant's Taxpayer Identification Number. However, this information will be redacted from public view.

This form has been revised to include FCC Registration Number (FRN) and to correct mailing addresses in the general instructions, where to file completed applications and filing for emergency requests.

The estimated average burden and number of respondents has been corrected based on receipts for the past 2 years.

Federal Communications Commission.
Magalie Roman Salas,
Secretary.

[FR Doc. 01-21415 Filed 8-23-01; 8:45 am]

BILLING CODE 6712-01-P